DEPARTMENT OF JUSTICE

Notice of Lodging of Proposed Consent Decree Under the Clean Air Act (“CAA”)

On July 31, 2013, the Department of Justice lodged a proposed Consent Decree (“Decree”) with the United States District Court for the District of Utah in the lawsuit entitled United States and State of Utah, Utah Division of Air Quality v. Chevron U.S.A. Inc., Civil Action No. 2:13-cv-00721-EJF.

In this action the United States and the State of Utah, Utah Division of Air Quality filed a complaint and consent decree concurrently against Chevron U.S.A., Inc. (“Chevron” or “Defendant”) seeking mitigation relief and civil penalties under Sections 113(b) and 167 of the Clean Air Act (“CAA” or “the Act”), 42 U.S.C. 7413(b) and 7475, and Utah Code Ann. §§ 19-2-104 and 107, for the Defendant's alleged violations at the petroleum refinery (“Refinery”) operated by Chevron located in Salt Lake City, Utah. The Defendant operated the Refinery in violation of various provisions of the CAA which include failing to obtain the necessary prevention of significant deterioration (“PSD”) permit and to install controls under the Act to reduce the pollutant nitrogen oxides (“NOx”). The Decree requires the Settling Defendant to install pollution controls at the Refinery to mitigate the harm caused by the Refinery's excess emissions and pay the sum of $384,000 dollars cash, including interest, to the United States as a civil penalty.

The publication of this notice opens a period for public comment on the Decree. Comments should be addressed to the Assistant Attorney General, Environment and Natural Resources Division, and should refer to United States v. Chevron U.S.A. Inc., D.J. Ref. No. 90-5-2-1-09645. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Robert Brook,
Assistant Section Chief, Environmental Enforcement Section, Environment and Natural Resources Division.

[FR Doc. 2013-19141 Filed 8-7-13; 8:45 am]

BILLING CODE 4410-15-P